DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

National Survey on Drug Use and Health: Clinical Validation Study of the Substance Dependence and Abuse Measures—(OMB No. 0930-0231)—Revision

The Substance Abuse and Mental Health Services Administration's (SAMHSA) National Survey on Drug Use and Health (NSDUH), formerly the National Household Survey on Drug Abuse, is a survey of the civilian, noninstitutionalized population of the United States 12 years old and older. The data are used to determine the prevalence of use of tobacco products, alcohol, illicit substances, and illicit use of prescription drugs. The results are used by SAMHSA, the Office of National Drug Control Policy, other Federal government agencies, and other organizations and researchers to establish policy, direct program activities, and better allocate resources.

From 2001-2004, the NSDUH conducted the first phase (phase 1) of a two-phase Clinical Validation Study of the Substance Dependence and Abuse Measures. From 2005-2007 the NSDUH plans to conduct the second phase (Phase 2) of this study. Specific aims of the two-phase study are to achieve the best overarching format, and the best wording and ordering for the assessment questions. The goal is improved validity and reduced respondent burden.

In phase 1 a field test was conducted. Half of all subjects in this field test were between 12 and 17, and half 18 years of age or older; subjects were recruited from the Research Triangle and the Triad areas of North Carolina through fliers and newspaper ads, and asked (1) demographic information and (2) questions from two self-administered sections of the NSDUH questionnaire: questions about the quantity and frequency of use of drugs and alcohol, and questions about symptoms of substance dependence and abuse. A semi-structured clinical interview was administered to these same subjects by a trained clinician to determine the presence or absence of substance dependence and abuse. The clinical instruments used to assess subjects were the substance abuse modules from the Structured Clinical Interview for DSM-IV (SCID) (for adults) and the Kiddie Schedule for Affective Disorders and Schizophrenia (K-SADS ) (for those between 12 and 17 years of age). The correspondence of the diagnosis of substance dependence and abuse between the clinical and survey interview were compared.

The results of this comparison from the field test in phase 1 indicated a lack of sufficient correspondence between the clinical and survey interview. Overall there was a strong tendency toward over reporting in the survey interview. Recommendations were made to revise specific questions. Problems with specific questions were identified and reasons for lack of correspondence were examined. Modifications to the NSDUH questions on substance dependence and abuse to achieve better correspondence are being made for phase 2 of the study. In order to reduce a tendency to over report some questions have been revised to be more specific.

In Phase 2, a second clinical validation study will be conducted using the same procedures as Phase 1 but with the revised questions on dependence or abuse. This will allow a determination of the correspondence (kappa) between the revised diagnosis obtained from the NSDUH substance dependence and abuse module and the diagnosis from the structured clinical interviews. Final revisions to the survey instrument will be made based on findings from Phase 2. All decisions about final revisions to the module will balance the need for correspondence across different groups. The following table summarizes the burden associated with phase two of the project.

Phase II | Number of respondents | Responses per respondent | Hours per response | Total burden
Adults:
Screening | 400 | 1 | .08 | 32
Screener and interview | 200 | 1 | 1.5 | 300
Adolescents:
Screening | 200 | 1 | 1.5 | 300
Screener and interview | 170 | 1 | 1.50 | 255
Total | 370 |  |  | 887

Send comments to Summer King, SAMHSA Reports Clearance Officer, Room 7-1044, 1 Choke Cherry Road, Rockville, MD 20850. Written comments should be received by January 18, 2005.

Dated: November 9, 2004.
Anna Marsh,
Executive Officer, SAMHSA.

[FR Doc. 04-25365 Filed 11-15-04; 8:45 am]

BILLING CODE 4162-20-P